DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Maternal and Child Health Services Block Grant Annual Report, Needs Assessment and Application Guidance (OMB No. 0915-0172)—Revision

The Health Resources and Services Administration (HRSA) proposes to revise the Guidance and Forms for the Application and Annual Report for the Maternal and Child Health Services Title V Block Grant Program. The guidance is used annually by the 50 States and nine jurisdictions in making application for Block Grants under Title V of the Social Security Act, and in preparing the required annual report. The proposed revisions follow and build on extensive modifications made to the guidance and forms in 1997. The proposed revisions are of two types: (1) Editorial and technical revisions based on the experiences of the States and jurisdictions in using the guidance and forms in 1998 and 1999; and, (2) The addition of a standard set of measures to be used in conducting the formal needs assessment required by Title V every five years. This needs assessment will be required of each State and jurisdiction in fiscal year 2000.

The addition of the core set of measures for use in conducting the formal needs assessment follows discussions with State Maternal and Child Health Directors over the last two years. The changes incorporated in the 1997 revisions have been reflected in major changes in the Title V program, with much more emphasis on accountability and performance measurement as part of the performance partnership concept on which those changes were built. The inclusion now of standard measures for all States and jurisdictions to use in conducting the five-year needs assessment is a natural progression in the development of the Federal-State partnership process.

Following approval of the 1997 revisions, HRSA developed and instituted an automated electronic data collection and reporting system, the Title V Electronic Reporting Package (Title V ERP). The ERP has greatly reduced the burden on the States and jurisdictions, because it provides for automatic calculations of ratios, rates, and percentages, carries data over from year to year, and assures that data used in multiple tables are entered only once. The ERP also provides for text entry, and facilitates the orderly printing of tables, text, and required appendices.

The estimated response burden is as follows:

Type of form | Number of respondents | Responses per respondent | Burden hours per response | Total burden hours
Annual Report and Application with Needs Assessment (FY 2000):
States | 50 | 1 | 500 | 25,000
Jurisdictions | 9 | 1 | 270 | 2,430
Annual Report and Application without Needs Assessment (FY 2001 and FY 2002)
States | 50 | 1 | 335 | 16,750
Jurisdictions | 9 | 1 | 135 | 1,215
Total Average Annual Reporting Burden |  |  |  | 21,122

Written comments and recommendations concerning the proposed information collection should be sent within 30 days of this notice to: Wendy A. Taylor, Human Resources and Housing Branch, Office of Management and Budget, New Executive Office Building, Room 10235, Washington, DC 20503.

Dated: February 7, 2000.
Jane Harrison
Director, Division of Policy Review and Coordination.

[FR Doc. 00-3408 Filed 2-14-00; 8:45 am]

BILLING CODE 4160-15-U